OFFICE OF NATIONAL DRUG CONTROL POLICY

Paperwork Reduction Act; Notice of Intent to Collect; Comment Request

AGENCY: Office of National Drug Control Policy (ONDCP).

ACTION: ONDCP provides opportunity for public comment concerning the collection of information to identify states that have adopted the new Healthcare Common Procedure Coding System (HCPCS) codes (Codes H0049 and H0050) for alcohol and drug screening, and brief intervention (SBI).

SUMMARY: This action proposes the collection of drug control information from state Medicaid directors.

SUPPLEMENTARY INFORMATION:

I. Purpose

The purpose of this survey is to identify states that have adopted HCPCS codes H0049 and H0050 to permit payment of SBI services from state Medicaid programs. The information will be used as performance indicators in the Consolidated Federal Drug Control Budget and will help inform policy by providing a greater understanding of the level of state participation in the SBI concept.

Type of Collection: Survey of state Medicaid directors.

Title of Information Collection: Healthcare Common Procedure Coding System Survey.

Frequency: Annually by fiscal year.

Affected Public: Instrumentalities of state Medicaid directors.

Estimated Burden: Minimal since the material resides with state Medicaid directors.

II. Special Issues for Comment

ONDCP especially invites comments on: (a) Whether the proposed collection is necessary for the proper performance of ONDCP functions, including whether the information has practical utility; (b) ways to enhance information quality, utility, and clarity; and, (c) ways to ease the burden on respondents, including the use of automated collection techniques or other forms of information technology.

ADDRESSES: Address all comments in writing 60 days to Meridith DeFraites. Facsimile and email are the more reliable means of communication. Ms. DeFraites facsimile number is (202) 395-5176, and her e-mail address is mdefraites@ondcp.eop.gov. Mailing address is Executive office of the President, Office of National Drug Control Policy, Washington, DC 20503. For further information, contact Ms. DeFraites at (202) 395-5276.

Signed at Washington DC, on February 15, 2008.
Daniel R. Petersen,
Assistant General Counsel.

[FR Doc. E8-3227 Filed 2-20-08; 8:45 am]

BILLING CODE 3180-D2-P